DEPARTMENT OF ENERGY

Federal Energy Regulatory Commission

Combined Notice of Filings

Take notice that the Commission has received the following Natural Gas Pipeline Rate and Refund Report filings:

Filings Instituting Proceedings

Docket Numbers: CP15-100-000.

Applicants: National Fuel Gas Supply Corporation.

Description: Joint Application of National Fuel Gas Supply Corporation and National Fuel Gas Supply, LLC to Restructure Ownership as a Limited Liability Company.

Filed Date: 2/26/15.

Accession Number: 20150226-5342.

Comments Due: 5 p.m. ET 3/19/15.

Docket Numbers: RP15-513-000.

Applicants: Equitrans, L.P.

Description: Section 4(d) rate filing per 154.204: AVC Storage Loss Retainage Factor Update to be effective 4/1/2015.

Filed Date: 2/25/15.

Accession Number: 20150225-5152.

Comments Due: 5 p.m. ET 3/9/15.

Docket Numbers: RP15-514-000.

Applicants: Iroquois Gas Transmission System, L.P.

Description: Section 4(d) rate filing per 154.204: 02/25/15 Negotiated Rates—Mercuria Energy Trading Gas LLC (HUB) 7540-89 to be effective 2/24/2015.

Filed Date: 2/25/15.

Accession Number: 20150225-5153.

Comments Due: 5 p.m. ET 3/9/15.

Docket Numbers: RP15-515-000.

Applicants: Iroquois Gas Transmission System, L.P.

Description: Section 4(d) rate filing per 154.204: 02/25/15 Negotiated Rates—Sequent Energy Management (HUB) 3075-89 to be effective 2/24/2015.

Filed Date: 2/25/15.

Accession Number: 20150225-5155.

Comments Due: 5 p.m. ET 3/9/15.

Docket Numbers: RP15-516-000.

Applicants: Northern Natural Gas Company.

Description: Section 4(d) rate filing per 154.204: 20150225 Negotiated Rate to be effective 2/26/2015.

Filed Date: 2/25/15.

Accession Number: 20150225-5288.

Comments Due: 5 p.m. ET 3/9/15.

Docket Numbers: RP15-517-000.

Applicants: Vector Pipeline L.P.

Description: Section 4(d) rate filing per 154.204: Negotiated Rate Filing—Rover Pipeline LLC to be effective 3/30/2015.

Filed Date: 2/26/15.

Accession Number: 20150226-5035.

Comments Due: 5 p.m. ET 3/10/15.

Docket Numbers: RP15-518-000.

Applicants: Transcontinental Gas Pipe Line Company.

Description: Section 4(d) rate filing per 154.403: Annual Electric Power Tracker Filing effective April 1, 2015 to be effective 4/1/2015.

Filed Date: 2/26/15.

Accession Number: 20150226-5067.

Comments Due: 5 p.m. ET 3/10/15.

Docket Numbers: RP15-519-000.

Applicants: Southern Star Central Gas Pipeline, Inc.

Description: Section 4(d) rate filing per 154.204: Fuel Filing—Eff. April 1, 2015 to be effective 4/1/2015.

Filed Date: 2/26/15.

Accession Number: 20150226-5068.

Comments Due: 5 p.m. ET 3/10/15.

Docket Numbers: RP15-520-000.

Applicants: Algonquin Gas Transmission, LLC.

Description: Section 4(d) rate filing per 154.204: BBPC 2015-03-01 Releases to EDF Trading to be effective 3/1/2015.

Filed Date: 2/26/15.

Accession Number: 20150226-5069.

Comments Due: 5 p.m. ET 3/10/15.

Docket Numbers: RP15-521-000.

Applicants: Iroquois Gas Transmission System, L.P.

Description: Section 4(d) rate filing per 154.204: 02/26/15 Negotiated Rates—Mercuria Energy Gas Trading LLC (HUB)—7540-89 to be effective 2/25/2015.

Filed Date: 2/26/15.

Accession Number: 20150226-5106.

Comments Due: 5 p.m. ET 3/10/15.

Docket Numbers: RP15-522-000.

Applicants: Iroquois Gas Transmission System, L.P.

Description: Section 4(d) rate filing per 154.204: 02/26/15 Negotiated Rates—Sequent Energy Management (HUB) 3075-89 to be effective 2/25/2015.

Filed Date: 2/26/15.

Accession Number: 20150226-5111.

Comments Due: 5 p.m. ET 3/10/15.

Docket Numbers: RP15-523-000.

Applicants: Sabine Pipe Line LLC.

Description: Section 4(d) rate filing per 154.204: Sabine Annual LUAF and Fuel Filing to be effective 4/1/2015.

Filed Date: 2/26/15.

Accession Number: 20150226-5192.

Comments Due: 5 p.m. ET 3/10/15.

Docket Numbers: RP15-524-000.

Applicants: Northwest Pipeline LLC.

Description: Section 4(d) rate filing per 154.204: 2015 Summer Fuel Filing to be effective 4/1/2015.

Filed Date: 2/26/15.

Accession Number: 20150226-5222.

Comments Due: 5 p.m. ET 3/10/15.

Docket Numbers: RP15-525-000.

Applicants: Golden Pass Pipeline LLC.

Description: Compliance filing per 154.203: Golden Pass Pipeline 2015 Annual Operational Purchase and Sales Report.

Filed Date: 2/26/15.

Accession Number: 20150226-5224.

Comments Due: 5 p.m. ET 3/10/15.

Docket Numbers: RP15-526-000.

Applicants: Viking Gas Transmission Company.

Description: Compliance filing per 154.203: Semi-Annual FLRP—Spring 2015.

Filed Date: 2/26/15.

Accession Number: 20150226-5233.

Comments Due: 5 p.m. ET 3/10/15.

Docket Numbers: RP15-527-000.

Applicants: Viking Gas Transmission Company.

Description: Section 4(d) rate filing per 154.204: Annual LMCRA—Spring 2015 to be effective 4/1/2015.

Filed Date: 2/26/15.

Accession Number: 20150226-5246.

Comments Due: 5 p.m. ET 3/10/15.

Docket Numbers: RP15-528-000.

Applicants: Guardian Pipeline, L.L.C..

Description: Section 4(d) rate filing per 154.204: EPCR Semi-Annual Adjustment—Spring 2015 to be effective 4/1/2015.

Filed Date: 2/26/15.

Accession Number: 20150226-5258.

Comments Due: 5 p.m. ET 3/10/15.

Docket Numbers: RP15-529-000.

Applicants: Northern Natural Gas Company.

Description: Section 4(d) rate filing per 154.204: 20150226 Negotiated Rate to be effective 2/27/2015.

Filed Date: 2/26/15.

Accession Number: 20150226-5284.

Comments Due: 5 p.m. ET 3/10/15.

Docket Numbers: RP15-530-000.

Applicants: Northwest Pipeline LLC.

Description: Section 4(d) rate filing per 154.204: 2015 South Seattle Lateral Annual Rate True Up to be effective 4/1/2015.

Filed Date: 2/26/15.

Accession Number: 20150226-5302.

Comments Due: 5 p.m. ET 3/10/15.

Docket Numbers: RP15-531-000.

Applicants: Trailblazer Pipeline Company LLC.

Description: Section 4(d) rate filing per 154.204: Neg Rate 2015-02-26 Green Plains to be effective 2/26/2015.

Filed Date: 2/26/15.

Accession Number: 20150226-5323.

Comments Due: 5 p.m. ET 3/10/15.

Docket Numbers: RP15-532-000.

Applicants: Tuscarora Gas Transmission Company.

Description: Section 4(d) rate filing per 154.204: Installation of Facilities Revisions to be effective 4/1/2015.

Filed Date: 2/27/15.

Accession Number: 20150227-5064.

Comments Due: 5 p.m. ET 3/11/15.

Docket Numbers: RP15-533-000.

Applicants: ANR Pipeline Company.

Description: Section 4(d) rate filing per 154.403(d)(2): Fuel Filing 2015 to be effective 4/1/2015.

Filed Date: 2/27/15.

Accession Number: 20150227-5080.

Comments Due: 5 p.m. ET 3/11/15.

Docket Numbers: RP15-534-000.

Applicants: Equitrans, L.P.

Description: Section 4(d) rate filing per 154.204: 3-1-2015 Formula-Based Negotiated Rates to be effective 3/1/2015.

Filed Date: 2/27/15.

Accession Number: 20150227-5093.

Comments Due: 5 p.m. ET 3/11/15.

Docket Numbers: RP15-535-000.

Applicants: Texas Gas Transmission, LLC.

Description: Section 4(d) rate filing per 154.204: Neg Rate Agmts Filing (Jay-Bee 34446, 34447) to be effective 3/1/2015.

Filed Date: 2/27/15.

Accession Number: 20150227-5095.

Comments Due: 5 p.m. ET 3/11/15.

Docket Numbers: RP15-536-000.

Applicants: Gulf South Pipeline Company, LP.

Description: Section 4(d) rate filing per 154.204: Cap Rel Neg Rate Agmt (Encana 37663 to BP 44039) to be effective 3/1/2015.

Filed Date: 2/27/15.

Accession Number: 20150227-5096.

Comments Due: 5 p.m. ET 3/11/15.

Docket Numbers: RP15-537-000.

Applicants: Gulf South Pipeline Company, LP.

Description: Section 4(d) rate filing per 154.204: Remove Expired Agmts from Tariff eff Mar 1, 2015 to be effective 3/1/2015.

Filed Date: 2/27/15.

Accession Number: 20150227-5097.

Comments Due: 5 p.m. ET 3/11/15.

Docket Numbers: RP15-538-000.

Applicants: MarkWest Pioneer, L.L.C.

Description: Section 4(d) rate filing per 154.403(d)(2): MarkWest Pioneer Quarterly FRP Filing to be effective 4/1/2015.

Filed Date: 2/27/15.

Accession Number: 20150227-5111.

Comments Due: 5 p.m. ET 3/11/15.

Docket Numbers: RP15-539-000.

Applicants: Texas Eastern Transmission, LP.

Description: Section 4(d) rate filing per 154.204: Non-conforming and NegRate Agreement—BP Energy 911236 to be effective 3/1/2015.

Filed Date: 2/27/15.

Accession Number: 20150227-5124.

Comments Due: 5 p.m. ET 3/11/15.

Docket Numbers: RP15-540-000.

Applicants: WBI Energy Transmission, Inc.

Description: Section 4(d) rate filing per 154.204: 2015 Annual Fuel & Electric Power Reimbursement to be effective 4/1/2015.

Filed Date: 2/27/15.

Accession Number: 20150227-5126.

Comments Due: 5 p.m. ET 3/11/15.

Docket Numbers: RP15-541-000.

Applicants: Algonquin Gas Transmission, LLC.

Description: Compliance filing per 154.203: AGT RM14-21-000 Map Compliance Filing to be effective 4/1/2015.

Filed Date: 2/27/15.

Accession Number: 20150227-5132.

Comments Due: 5 p.m. ET 3/11/15.

Docket Numbers: RP15-542-000.

Applicants: Bobcat Gas Storage.

Description: Compliance filing per 154.203: BGS RM14-21-000 Map Compliance Filing to be effective 4/1/2015.

Filed Date: 2/27/15.

Accession Number: 20150227-5133.

Comments Due: 5 p.m. ET 3/11/15.

Docket Numbers: RP15-543-000.

Applicants: Big Sandy Pipeline, LLC.

Description: Compliance filing per 154.203: BSP RM14-21-000 Map Compliance Filing to be effective 4/1/2015.

Filed Date: 2/27/15.

Accession Number: 20150227-5135.

Comments Due: 5 p.m. ET 3/11/15.

Docket Numbers: RP15-544-000.

Applicants: East Tennessee Natural Gas, LLC.

Description: Compliance filing per 154.203: ETNG RM14-21 Map Compliance Filing to be effective 4/1/2015.

Filed Date: 2/27/15.

Accession Number: 20150227-5136.

Comments Due: 5 p.m. ET 3/11/15.

Docket Numbers: RP15-545-000.

Applicants: Gulfstream Natural Gas System, L.L.C.

Description: Compliance filing per 154.203: GNGS RM14-21-000 Map Compliance Filing to be effective 4/1/2015.

Filed Date: 2/27/15.

Accession Number: 20150227-5138.

Comments Due: 5 p.m. ET 3/11/15.

Docket Numbers: RP15-546-000.

Applicants: Maritimes & Northeast Pipeline, L.L.C.

Description: Compliance filing per 154.203: MNUS RM14-21-000 Map Compliance Filing to be effective 4/1/2015.

Filed Date: 2/27/15.

Accession Number: 20150227-5140.

Comments Due: 5 p.m. ET 3/11/15.

Docket Numbers: RP15-547-000.

Applicants: Ozark Gas Transmission, L.L.C.

Description: Compliance filing per 154.203: OGT RM14-21-000 Map Compliance Filing to be effective 4/1/2015.

Filed Date: 2/27/15.

Accession Number: 20150227-5141.

Comments Due: 5 p.m. ET 3/11/15.

Docket Numbers: RP15-548-000.

Applicants: Southeast Supply Header, LLC.

Description: Compliance filing per 154.203: SESH RM14-21-000 Map Compliance Filing to be effective 2/27/2015.

Filed Date: 2/27/15.

Accession Number: 20150227-5145.

Comments Due: 5 p.m. ET 3/11/15.

Docket Numbers: RP15-549-000.

Applicants: Saltville Gas Storage Company L.L.C.

Description: Compliance filing per 154.203: SGSC RM14-21-000 Map Compliance Filing to be effective 4/1/2015.

Filed Date: 2/27/15.

Accession Number: 20150227-5146.

Comments Due: 5 p.m. ET 3/11/15.

Docket Numbers: RP15-550-000.

Applicants: Steckman Ridge, LP.

Description: Compliance filing per 154.203: SR RM14-21-000 Map Compliance Filing to be effective 4/1/2015.

Filed Date: 2/27/15.

Accession Number: 20150227-5148.

Comments Due: 5 p.m. ET 3/11/15.

Docket Numbers: RP15-551-000.

Applicants: Texas Eastern Transmission, LP.

Description: Compliance filing per 154.203: TETLP RM14-21-000 Maps Compliance Filing to be effective 4/1/2015.

Filed Date: 2/27/15.

Accession Number: 20150227-5151.

Comments Due: 5 p.m. ET 3/11/15.

Docket Numbers: RP15-552-000.

Applicants: Egan Hub Storage, LLC.

Description: Compliance filing per 154.203: Egan RM14-21-000 Map Compliance Filing to be effective 4/1/2015.

Filed Date: 2/27/15.

Accession Number: 20150227-5152.

Comments Due: 5 p.m. ET 3/11/15.

Docket Numbers: RP15-553-000.

Applicants: Columbia Gas Transmission, LLC.

Description: Section 4(d) rate filing per 154.403: EPCA 2015 to be effective 4/1/2015.

Filed Date: 2/27/15.

Accession Number: 20150227-5153.

Comments Due: 5 p.m. ET 3/11/15.

Docket Numbers: RP15-554-000.

Applicants: Columbia Gas Transmission, LLC.

Description: Section 4(d) rate filing per 154.403(d)(2): TCRA 2015 to be effective 4/1/2015.

Filed Date: 2/27/15.

Accession Number: 20150227-5155.

Comments Due: 5 p.m. ET 3/11/15.

Docket Numbers: RP15-555-000.

Applicants: Columbia Gas Transmission, LLC.

Description: Section 4(d) rate filing per 154.204: RAM 2015 to be effective 4/1/2015.

Filed Date: 2/27/15.

Accession Number: 20150227-5162.

Comments Due: 5 p.m. ET 3/11/15.

Docket Numbers: RP15-557-000.

Applicants: Columbia Gulf Transmission, LLC.

Description: Section 4(d) rate filing per 154.204: TRA 2015 to be effective 4/1/2015.

Filed Date: 2/27/15.

Accession Number: 20150227-5187.

Comments Due: 5 p.m. ET 3/11/15.

Docket Numbers: RP15-558-000.

Applicants: Central Kentucky Transmission Company.

Description: Section 4(d) rate filing per 154.204: RAM 2015 to be effective 4/1/2015.

Filed Date: 2/27/15.

Accession Number: 20150227-5197.

Comments Due: 5 p.m. ET 3/11/15.

Docket Numbers: RP15-559-000.

Applicants: Iroquois Gas Transmission System, L.P..

Description: Section 4(d) rate filing per 154.204: 02/27/15 Negotiated Rates—ConEdison Energy Inc. (HUB) 2275-89 to be effective 2/26/2015.

Filed Date: 2/27/15.

Accession Number: 20150227-5200.

Comments Due: 5 p.m. ET 3/11/15.

Docket Numbers: RP15-560-000.

Applicants: East Cheyenne Gas Storage, LLC.

Description: Section 4(d) rate filing per 154.204: ECGS Ratchet Modification Filing 2-27-15 to be effective 4/1/2015.

Filed Date: 2/27/15.

Accession Number: 20150227-5206.

Comments Due: 5 p.m. ET 3/11/15.

Docket Numbers: RP15-561-000.

Applicants: Dominion Transmission, Inc.

Description: Section 4(d) rate filing per 154.204: DTI—February 27, 2015 Negotiated Rate Agreement to be effective 3/1/2015.

Filed Date: 2/27/15.

Accession Number: 20150227-5208.

Comments Due: 5 p.m. ET 3/11/15.

Docket Numbers: RP15-562-000.

Applicants: KO Transmission Company.

Description: Section 4(d) rate filing per 154.403: Transporation Retainage Adjustment Filing 2015 to be effective 4/1/2015.

Filed Date: 2/27/15.

Accession Number: 20150227-5211.

Comments Due: 5 p.m. ET 3/11/15.

Docket Numbers: RP15-563-000.

Applicants: Southwest Gas Storage Company.

Description: Section 4(d) rate filing per 154.204: Fuel Filing on 2-27-15 to be effective 4/1/2015.

Filed Date: 2/27/15.

Accession Number: 20150227-5245.

Comments Due: 5 p.m. ET 3/11/15.

Docket Numbers: RP15-564-000.

Applicants: Iroquois Gas Transmission System, L.P.

Description: Section 4(d) rate filing per 154.204: 02/27/15 Negotiated Rates—Mercuria Energy Gas Trading LLC (HUB)—7540-89 to be effective 2/26/2015.

Filed Date: 2/27/15.

Accession Number: 20150227-5247.

Comments Due: 5 p.m. ET 3/11/15.

Docket Numbers: RP15-565-000.

Applicants: Trunkline Gas Company, LLC.

Description: Section 4(d) rate filing per 154.204: Fuel Filing on 2-27-15 to be effective 4/1/2015.

Filed Date: 2/27/15.

Accession Number: 20150227-5258.

Comments Due: 5 p.m. ET 3/11/15.

Docket Numbers: RP15-566-000.

Applicants: Iroquois Gas Transmission System, L.P.

Description: Section 4(d) rate filing per 154.204: 02/27/15 Negotiated Rates—Sequent Energy Management (HUB) 3075-89 to be effective 2/26/2015.

Filed Date: 2/27/15.

Accession Number: 20150227-5270.

Comments Due: 5 p.m. ET 3/11/15.

Docket Numbers: RP15-567-000.

Applicants: Tallgrass Interstate Gas Transmission, L.

Description: Section 4(d) rate filing per 154.204: Neg Rate 2015-02-27 Macquarie to be effective 3/1/2015.

Filed Date: 2/27/15.

Accession Number: 20150227-5280.

Comments Due: 5 p.m. ET 3/11/15.

Docket Numbers: RP15-568-000.

Applicants: Panhandle Eastern Pipe Line Company, LP.

Description: Section 4(d) rate filing per 154.204: Fuel Filing on 2-27-15 to be effective 4/1/2015.

Filed Date: 2/27/15.

Accession Number: 20150227-5292.

Comments Due: 5 p.m. ET 3/11/15.

Docket Numbers: RP15-569-000.

Applicants: Cheniere Creole Trail Pipeline, L.P.

Description: Section 4(d) rate filing per 154.402: CCTPL Transportation Retainage Adjustment to be effective 4/1/2015.

Filed Date: 2/27/15.

Accession Number: 20150227-5307.

Comments Due: 5 p.m. ET 3/11/15.

Docket Numbers: RP15-570-000.

Applicants: Colorado Interstate Gas Company, L.L.C.

Description: Section 4(d) rate filing per 154.403(d)(2): FL&U Effective 4/1/15 to be effective 4/1/2015.

Filed Date: 2/27/15.

Accession Number: 20150227-5308.

Comments Due: 5 p.m. ET 3/11/15.

Docket Numbers: RP15-571-000.

Applicants: Columbia Gas Transmission, LLC.

Description: 2014 Operational Transactions Report of Columbia Gas Transmission, LLC.

Filed Date: 2/27/15.

Accession Number: 20150227-5236.

Comments Due: 5 p.m. ET 3/11/15.

Docket Numbers: RP15-572-000.

Applicants: Ruby Pipeline, L.L.C.

Description: Section 4(d) rate filing per 154.403(d)(2): FL&U effective 4/1/15 to be effective 4/1/2015.

Filed Date: 2/27/15.

Accession Number: 20150227-5327.

Comments Due: 5 p.m. ET 3/11/15.

Docket Numbers: RP15-573-000.

Applicants: Florida Gas Transmission Company, LLC.

Description: Section 4(d) rate filing per 154.204: Fuel Filing on 2-27-15 to be effective 4/1/2015.

Filed Date: 2/27/15.

Accession Number: 20150227-5333.

Comments Due: 5 p.m. ET 3/11/15.

Docket Numbers: RP15-574-000.

Applicants: Tennessee Gas Pipeline Company, L.L.C.

Description: Section 4(d) rate filing per 154.204: Fuel Tracker 2015 to be effective 4/1/2015.

Filed Date: 2/27/15.

Accession Number: 20150227-5339.

Comments Due: 5 p.m. ET 3/11/15.

Docket Numbers: RP15-575-000.

Applicants: East Tennessee Natural Gas, LLC.

Description: Section 4(d) rate filing per 154.204: Reservation Charge Crediting to be effective 4/1/2015.

Filed Date: 2/27/15.

Accession Number: 20150227-5397.

Comments Due: 5 p.m. ET 3/11/15.

Docket Numbers: RP15-576-000.

Applicants: Colorado Interstate Gas Company, L.L.C.

Description: Section 4(d) rate filing per 154.204: Non-Conforming, Negotiated Rate Agreement (DCP) to be effective 4/1/2015.

Filed Date: 2/27/15.

Accession Number: 20150227-5417.

Comments Due: 5 p.m. ET 3/11/15.

Docket Numbers: RP15-577-000.

Applicants: Guardian Pipeline, L.L.C.

Description: Section 4(d) rate filing per 154.204: Negotiated Rate PAL Agreement—Koch Energy Services LLC to be effective 3/1/2015.

Filed Date: 2/27/15.

Accession Number: 20150227-5437.

Comments Due: 5 p.m. ET 3/11/15.

Docket Numbers: RP15-578-000.

Applicants: Transcontinental Gas Pipe Line Company.

Description: Section 4(d) rate filing per 154.204: Negotiated Rates—Cherokee AGL—Replacement Shippers—Mar 2015 to be effective 3/1/2015.

Filed Date: 2/27/15.

Accession Number: 20150227-5438.

Comments Due: 5 p.m. ET 3/11/15.

Docket Numbers: RP15-579-000.

Applicants: Dominion Cove Point LNG, LP.

Description: Section 4(d) rate filing per 154.403: DCP—2015 Annual EPCA to be effective 4/1/2015.

Filed Date: 2/27/15.

Accession Number: 20150227-5441.

Comments Due: 5 p.m. ET 3/11/15.

Docket Numbers: RP15-580-000.

Applicants: Midwestern Gas Transmission Company.

Description: Section 4(d) rate filing per 154.204: Negotiated Rate PAL Agreements—Duke Energy Indiana, Inc. to be effective 2/27/2015.

Filed Date: 2/27/15.

Accession Number: 20150227-5442.

Comments Due: 5 p.m. ET 3/11/15.

Docket Numbers: RP15-581-000.

Applicants: Empire Pipeline, Inc.

Description: Compliance filing per 154.203: Annual Report Pursuant to GT&C 23.5 (02-27-15).

Filed Date: 2/27/15.

Accession Number: 20150227-5453.

Comments Due: 5 p.m. ET 3/11/15.

Docket Numbers: RP15-582-000.

Applicants: Dominion Cove Point LNG, LP.

Description: Section 4(d) rate filing per 154.403(d)(2): DCP—2015 Annual Fuel Retainage to be effective 4/1/2015.

Filed Date: 2/27/15.

Accession Number: 20150227-5456.

Comments Due: 5 p.m. ET 3/11/15.

Docket Numbers: RP15-583-000.

Applicants: El Paso Natural Gas Company, L.L.C.

Description: Section 4(d) rate filing per 154.204: Non-Conforming Agreements Filing (ConocoPhillips) to be effective 4/1/2015.

Filed Date: 2/27/15.

Accession Number: 20150227-5465.

Comments Due: 5 p.m. ET 3/11/15.

Docket Numbers: RP15-584-000.

Applicants: Rockies Express Pipeline LLC.

Description: Section 4(d) rate filing per 154.204: FL&U and Electric Power Periodic Rate Adjustment to be effective 4/1/2015.

Filed Date: 2/27/15.

Accession Number: 20150227-5491.

Comments Due: 5 p.m. ET 3/11/15.

Docket Numbers: RP15-585-000.

Applicants: Rockies Express Pipeline LLC.

Description: Section 4(d) rate filing per 154.204: Neg Rate 2015-02-27 ConocoPhillips, Encana to be effective 3/1/2015.

Filed Date: 2/27/15.

Accession Number: 20150227-5517.

Comments Due: 5 p.m. ET 3/11/15.

Docket Numbers: RP15-586-000.

Applicants: Northern Natural Gas Company.

Description: Section 4(d) rate filing per 154.204: 20150227 Negotiated Rate to be effective 3/1/2015.

Filed Date: 2/27/15.

Accession Number: 20150227-5551.

Comments Due: 5 p.m. ET 3/11/15.

Docket Numbers: RP15-587-000.

Applicants: Gulf South Pipeline Company, LP.

Description: Section 4(d) rate filing per 154.204: Cap Rel Neg Rate Agmt (QEP 37657 to Trans LA 44113) to be effective 3/1/2015.

Filed Date: 3/2/15.

Accession Number: 20150302-5142.

Comments Due: 5 p.m. ET 3/16/15.

Docket Numbers: RP15-588-000.

Applicants: Energy West Development, Inc.

Description: Section 4(d) rate filing per 154.204: 2015 LAUF Filing to be effective 4/1/2015.

Filed Date: 3/2/15.

Accession Number: 20150302-5217.

Comments Due: 5 p.m. ET 3/16/15.

Docket Numbers: RP15-589-000.

Applicants: Iroquois Gas Transmission System, L.P.

Description: Section 4(d) rate filing per 154.204: 03/02/15. Negotiated Rates—ConEdison Energy Inc. (HUB) 2275-89 to be effective 2/27/2015.

Filed Date: 3/2/15.

Accession Number: 20150302-5218.

Comments Due: 5 p.m. ET 3/16/15.

Docket Numbers: RP15-590-000.

Applicants: Energy West Development, Inc.

Description: Compliance filing per 154.203: Map filing to be effective 4/1/2015.

Filed Date: 3/2/15.

Accession Number: 20150302-5245.

Comments Due: 5 p.m. ET 3/16/15.

Docket Numbers: RP15-591-000.

Applicants: Iroquois Gas Transmission System, L.P.

Description: Section 4(d) rate filing per 154.204: 03/02/15. Negotiated Rates—Mercuria Energy Gas Trading (HUB)—7540-89 to be effective 2/27/2015.

Filed Date: 3/2/15.

Accession Number: 20150302-5256.

Comments Due: 5 p.m. ET 3/16/15.

Docket Numbers: RP15-592-000.

Applicants: Columbia Gas Transmission, LLC.

Description: Section 4(d) rate filing per 154.204: Negotiated Rate Amendment—SWN to be effective 2/25/2015.

Filed Date: 3/2/15.

Accession Number: 20150302-5258.

Comments Due: 5 p.m. ET 3/16/15.

Docket Numbers: RP15-593-000.

Applicants: National Fuel Gas Supply Corporation.

Description: Section 4(d) rate filing per 154.204: Non-Conforming (Empire + Supply TLP) to be effective 4/1/2015.

Filed Date: 3/2/15.

Accession Number: 20150302-5277.

Comments Due: 5 p.m. ET 3/16/15.

Docket Numbers: RP15-594-000.

Applicants: KPC Pipeline, LLC.

Description: Section 4(d) rate filing per 154.403(d)(2): KPC Fuel Reimbursement Adjustment to be effective 4/1/2015.

Filed Date: 3/2/15.

Accession Number: 20150302-5328.

Comments Due: 5 p.m. ET 3/16/15.

Docket Numbers: RP15-595-000.

Applicants: Golden Pass Pipeline LLC.

Description: Compliance filing per 154.203: Golden Pass Pipeline LLC Revised Annual Retainage Report for 2015 to be effective 4/1/2015.

Filed Date: 3/2/15.

Accession Number: 20150302-5332.

Comments Due: 5 p.m. ET 3/16/15.

Docket Numbers: RP15-596-000.

Applicants: Iroquois Gas Transmission System, L.P.

Description: Section 4(d) rate filing per 154.204: 03/02/15. Negotiated Rates—Exelon Generation Company, LLC. (HUB) 1985-89 to be effective 3/1/2015.

Filed Date: 3/2/15.

Accession Number: 20150302-5342.

Comments Due: 5 p.m. ET 3/16/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-504-000.

Applicants: Golden Pass Pipeline LLC.

Description: Tariff Withdrawal per 154.205(a): Golden Pass Pipeline Annual Retainage Report for 2015 Withdrawal.

Filed Date: 3/2/15.

Accession Number: 20150302-5216.

Comments Due: 5 p.m. ET 3/16/15.

Docket Numbers: RP15-302-001.

Applicants: Guardian Pipeline, L.L.C.

Description: Compliance filing per 154.203: Compliance Filing pursuant to RP15-302-000 to be effective 2/27/2015.

Filed Date: 2/27/15.

Accession Number: 20150227-5471.

Comments Due: 5 p.m. ET 3/11/15.

Docket Numbers: RP15-303-001.

Applicants: Guardian Pipeline, L.L.C.

Description: Compliance filing per 154.203: Compliance Filing pursuant to RP15-303-000 to be effective 2/27/2015.

Filed Date: 2/27/15.

Accession Number: 20150227-5479.

Comments Due: 5 p.m. ET 3/11/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 3, 2015.
Nathaniel J. Davis, Sr.,
Deputy Secretary.

[FR Doc. 2015-05466 Filed 3-9-15; 8:45 am]

BILLING CODE 6717-01-P